DEPARTMENT OF ENERGY

10 CFR Part 431

[Docket Number EERE-2012-BT-STD-0020]

RIN 1904-AC77

Energy Conservation Program: Energy Conservation Standards for Commercial Clothes Washers

AGENCY: Office of Energy Efficiency and Renewable Energy, Department of Energy.

ACTION: Publication of determination.

SUMMARY: The Energy Policy and Conservation Act of 1975 (EPCA), as amended, prescribes that the U.S. Department of Justice (DOJ) make a determination on the impact, if any, on the lessening of competition likely to result from a U.S. Department of Energy's (DOE) proposed rule for energy conservation standards and that DOE publish the determination in the Federal Register. DOE published its final rule for energy conservation standards for commercial clothes washers on December 15, 2014, and is publishing the determination that DOJ made on the proposed rule.

DATES: January 13, 2015.

FOR FURTHER INFORMATION CONTACT: Mr. Bryan Berringer, U.S. Department of Energy, Office of Energy Efficiency and Renewable Energy, Building Technologies Program, EE-5B, 1000 Independence Avenue SW., Washington, DC 20585-0121. Telephone: (202) 586-0371. Email: Bryan.Berringer@ee.doe.gov.

Ms. Johanna Hariharan, U.S. Department of Energy, Office of the General Counsel, GC-33, 1000 Independence Avenue SW., Washington, DC 20585-0121. Telephone: (202) 287-6307. Email: Johanna.Hariharan@hq.doe.gov.

SUPPLEMENTARY INFORMATION: On December 15, 2014, DOE issued a final rule that adopted revised energy conservation standards for commercial clothes washers (CCWs) (“December 2014 Final Rule”). 79 FR 74491. DOE adopted the December 2014 Final Rule after considering comments received on the March 4, 2014 notice of proposed rulemaking and public meeting (“March 2014 NOPR”). 79 FR 12301. The Energy Conservation and Policy Act of 1975 (42 U.S.C. 6291, et seq.; “EPCA”), Pub. L. 94-163, requires that the Attorney General make a determination and analysis of the impact, if any, of any lessening of competition likely to result from a proposed standard, within 60 days of publication. (42 U.S.C. 6295(o)(2)(B)(ii)) EPCA also requires that DOE publish the determination and analysis in the Federal Register. Id.

DOE received the determination in response to the March 2014 NOPR from the Attorney General and the U.S. Department of Justice on August 16, 2014. In that determination, the Department of Justice concluded that the energy conservation standards for commercial clothes washers established in the subject rulemaking proceeding are unlikely to have a significant adverse impact on competition. Accordingly, DOE is publishing the determination.

Issued in Washington, DC, on December 16, 2014.
Kathleen B. Hogan,
Deputy Assistant Secretary for Energy Efficiency, Energy Efficiency and Renewable Energy.

U.S. DEPARTMENT OF JUSTICE

Antitrust Division

WILLIAM J. BAER

Assistant Attorney General

Main Justice Building

950 Pennsylvania Avenue, N.W.

Washington, D.C. 20530-0001

(202) 514-2401/(202) 616-2645 (Fax)

August 16, 2014

Eric J. Pygi

Deputy General Counsel

Department of Energy

Washington, D.C. 20585

Re: Commercial Clothes Washers Energy Conservation Standards

Dear Deputy General Counsel Pygi:

I am responding to your June 11, 2014 letter seeking the views of the Attorney General about the potential impact on competition of proposed energy conservation standards for commercial clothes washers. Your request was submitted under Section 325(0)(2)(B)(i)(V) of the Energy Policy and Consen(ation Act, as amended (ECPA), 42 U.S.C. 6295(0)(2)(B)(i)(V), which requires the Attorney General to make a determination of the impact of any lessening of competition that is likely to result from the imposition of proposed energy conservation standards. The Attorney General's responsibility for responding to requests from other departments about the effect of a program on competition has been delegated to the Assistant Attorney General for the Antitrust Division in 28 CPR § O.40(g).

In conducting its analysis the Antitrust Division examines whether a proposed standard may lessen competition, for example, by substantially limiting consumer choice, by placing certain manufacturers at an unjustified competitive disadvantage, or by inducing avoidable inefficiencies in production or distribution of particular products. A lessening of competition could result in higher prices to manufacturers and consumers.

We have reviewed the proposed standards contained in the Notice of Proposed Rulemaking (79 FR 12302, March 4, 2014) (NOPR). We have also reviewed supplementary information submitted to the Attorney General by the Department of Energy. Based on this review, our conclusion is that the proposed energy conservation standards for commercial clothes washers are unlikely to have a significant adverse impact on competition.

Sincerely,

William J. Baer

Enclosure

[FR Doc. 2014-30115 Filed 1-12-15; 8:45 am]

BILLING CODE 6450-01-P